DEPARTMENT OF HEALTH AND HUMAN SERVICES

Substance Abuse and Mental Health Services Administration (SAMHSA)

Advisory Committee for Women's Services; Notice of Meeting

Pursuant to Public Law 92-463, notice is hereby given of a Web-based meeting of the Substance Abuse and Mental Health Services Administration's (SAMHSA) Advisory Committee for Women's Services on November 13, 2009 from 1 p.m. to 4 p.m. The meeting is open to the public and will include an update on the committee's priorities.

ACWS members, invited presenters, and members of the public will participate in this meeting through audio/Internet-based connection. On-site attendance by the public will be limited to space available. To obtain call-in numbers and access codes, to make arrangements to attend on-site, or to request special accommodations for persons with disabilities, please communicate with Ms. Nevine Gahed, Designated Federal Official (see contact information below) or register at the SAMHSA Committees' Web site at https://nac.samhsa.gov/Registration/meetingsRegistration.aspx.

Substantive meeting information and a roster of Committee members may be obtained either by accessing the SAMHSA Committee's Web site at: https://nac.samhsa.gov/WomenServices/index.aspx, or by contacting Ms. Gahed. The transcript for the meeting will also be available on the SAMHSA Committee's Web site within three weeks after the meeting.

Committee Name: SAMHSA's Advisory Committee for Women's Services.

Date/Time/Type: Friday, November 13, 2009, from 1 p.m. to 4 p.m.: Open.

Place: 1 Choke Cherry Road, Room 8-1070, Rockville, Maryland 20857.

Contact: Nevine Gahed, Designated Federal Official, SAMHSA Advisory Committee for Women's Services, 1 Choke Cherry Road, Room 8-1112, Rockville, Maryland 20857, Telephone: (240) 276-2331; FAX: (240) 276-2220 and E-mail: nevine.gahed@samhsa.hhs.gov.

Toian Vaughn,
Committee Management Officer, Substance Abuse and Mental Health Services Administration.

[FR Doc. E9-25582 Filed 10-22-09; 8:45 am]

BILLING CODE 4162-20-P